DEPARTMENT OF HOUSING AND URBAN DEVELOPMENT

[Docket No. FR-5907-N-39]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: AIR FORCE: Mr. Robert E. Moriarty, P.E., AFCEC/CI, 2261 Hughes Avenue, Ste. 155, JBSA Lackland TX 78236-9853, (315)-225-7384; COE: Ms. Brenda Johnson-Turner, HQUSACE/CEMP-CR, 441 G Street NW., Washington, DC 20314, (202)-761-7238; GSA: Mr. Flavio Peres, General Services Administration, Office of Real Property Utilization and Disposal, 1800 F Street NW., Room 7040, Washington, DC 20405, (202) 501-0084; INTERIOR: Mr. Michael Wright, Acquisition & Property Management, Department of the Interior, 3960 N. 56th Ave., #104, Hollywood, FL 33021; (443) 223-4639; NASA: Mr. William Brodt, National Aeronautics and Space Administration, 300 E Street SW., Room 2P85, Washington, DC 20546, (202)-358-1117; NAVY: Ms. Nikki Hunt, Department of the Navy, Asset Management Division, Naval Facilities Engineering Command, Washington Navy Yard, 1330 Patterson Ave. SW., Suite 1000, Washington, DC 20374; (202)-685-9426; (These are not toll-free numbers).

Dated: September 15, 2016.
Brian P. Fitzmaurice,
Director, Division of Community Assistance, Office of Special Needs Assistance Programs.

Title V, Federal Surplus Property Program Federal Register Report for 09/23/2016

Suitable/Available Properties

Building

Louisiana

Former Hammond Army Reserve Center

1290 SW Railroad Ave.

Hammond LA 70403

Landholding Agency: GSA

Property Number: 54201630011

Status: Excess

GSA Number: 7-A-LA-0579-AA

Directions: Disposal Agency: GSA; Landholding Agency: COE

Comments: 56+ yrs.-old; 12,327 sq. ft.; 36+ mos. vacant; contact GSA for more information

Ohio

MUR BOS Project Office

MUR BOS-22841; BOS-01-A-01; 11614

Glenpark Rd. NE

Boliver OH 44612

Landholding Agency: COE

Property Number: 31201630023

Status: Excess

Directions: DAM Flood Control Structure

Comments: 712 sq. ft.; office and garage; 77+ years-old; insulation needed; possible lead & asbestos; remediation needed; contact COE for more information

Virginia

663 Darcy Pl.

JBLE

Ft. Eustis VA

Landholding Agency: Air Force

Property Number: 18201630016

Status: Unutilized

Comments: off-site removal only; no future agency need; 40,090 sq. ft.; relocation extremely difficult due to size/type; barracks; contact Air Force for more details

Unsuitable Properties

Building

Georgia

Facility 1010, XDQU

Savannah Hilton Head

International Airport

Garden City GA 31408

Landholding Agency: Air Force

Property Number: 18201630017

Status: Unutilized

Directions: 1401 Robert B. Miller Jr. Dr.

Comments: public access denied and no alternative method to gain access without compromising national security

Reasons: Secured Area

Hawaii

Bldg. 6109

Marine Corps Base

Kaneohe Bay HI 96863

Landholding Agency: Navy

Property Number: 77201630026

Status: Underutilized

Comments: public access denied and no alternative method to gain access without compromising national security

Reasons: Secured Area

Illinois

Base Hazardous Storage

RPUID 404849; CAT CODE 442257; Facility 00029

Abraham Lincoln Capital Airport (DCFT)

Springfield IL 62707

Landholding Agency: Air Force

Property Number: 18201630018

Status: Unutilized

Comments: public access denied and no alternative method to gain access without compromising national security

Reasons: Secured Area

Mississippi

Bldg. 2436 Butler Complex

Stennis Space Center

SSC MS 39529

Landholding Agency: NASA

Property Number: 71201630013

Status: Unutilized

Comments: public access denied and no alternative method to gain access without compromising national security

Reasons: Secured Area

New Jersey

C23, C36, C37, MSNAP

Storage/Security NWS Earle

1090 Road T-4 Rd.

Colts Neck NJ 07722

Landholding Agency: Navy

Property Number: 77201630030

Status: Excess

Comments: public access denied and no alternative method to gain access without compromising national security

Reasons: Secured Area

North Carolina

Frisco Pier and Pier House

54221 Cape Hatteras Pier Rd.

Frisco NC 27936

Landholding Agency: Interior

Property Number: 61201630016

Status: Unutilized

Comments: documented deficiencies: Pier 60% demolished; damaged & collapsed; structurally unsound; clear threat to personal physical safety

Reasons: Extensive deterioration

Ohio

9 Buildings

2988 North Access Road

Columbus OH 42317

Landholding Agency: Navy

Property Number: 77201630028

Status: Excess

Directions: 1000; 1001; 1002; 1003; 1009; 1011; 1012; 1013; 1014

Comments: public access denied and no alternative method to gain access without compromising national security

Reasons: Secured Area

Virginia

Building 3436

JEB Little Creek

VA Beach VA 23518

Landholding Agency: Navy

Property Number: 77201630027

Status: Unutilized

Comments: public access denied and no alternative method to gain access without compromising national security

Reasons: Secured Area

Building 1102

JEB Little Creek

VA Beach VA

Landholding Agency: Navy

Property Number: 77201630029

Status: Unutilized

Comments: public access denied and no alternative method to gain access without compromising national security

Reasons: Secured Area

Wyoming

Trailer M61 & M62

70/84 Tower Government Rd.

Yellowstone

National Park WY 82190

Landholding Agency: Interior

Property Number: 61201630015

Status: Unutilized

Comments: documented deficiencies: Severe rodent & insect infestations; possible Hanta Virus; structurally unsound; clear threat to personal physical safety

Reasons: Extensive deterioration

Colorado

59 Acre Portion of the Denver

Federal Center; Intersection of

Union Blvd. & W. 4th Ave.

Lakewood CO 80225

Landholding Agency: GSA

Property Number: 54201630010

Status: Surplus

GSA Number: 7-G-CO-0441-21-AJ

Comments: hazardous constituents at concentrations exceeding residential/unrestricted use levels; clear threat to personal physical safety

Reasons: Contamination

[FR Doc. 2016-22584 Filed 9-22-16; 8:45 am]

BILLING CODE 4210-67-P